DEPARTMENT OF AGRICULTURE

Forest Service

18 Fire Recovery Project, Deschutes National Forest, Deschutes County, OR

AGENCY: Forest Service, USDA.

ACTION: Notice of intent to prepare an environmental impact statement.

SUMMARY: The USDA, Forest Service, will prepare an environmental impact statement (EIS) on a proposed action to salvage dead and severely damaged trees, and plant trees and other vegetation to assist in the restoration of the area burned in the 18 Fire on the Bend/Fort Rock Ranger District of the Deschutes National Forest. The 18 Fire, located about 3.5 miles southeast of Bend, Oregon, burned approximately 3,810 acres, outside of the range of the northern spotted owl, entirely on National Forest System lands. The alternatives will include the proposed action, no action, and additional alternatives that respond to issues generated during the scoping process. The agency will give notice of the full environmental analysis and decision making process so interested and affected people may participate and contribute to the final decision.

DATES: Comments concerning the scope of the analysis must be received by January 16, 2004.

ADDRESSES: Send written comments to Walter C. Schloer, Jr., District Ranger, Bend/Fort Rock Ranger District, 1230 NE. Third Street, Suite 262A, Bend, Oregon 97701.

FOR FURTHER INFORMATION CONTACT: Mark Macfarlane, Environmental Coordinator, 1230 NE. Third Street, Suite 262A, Bend, Oregon 97701. Phone: 541-383-4769. E-mail: mmacfarlane@fs.fed.us.

SUPPLEMENTARY INFORMATION: Purpose and Need. An estimated 76 percent of the fire occurred within the Deer Habitat Management Area of the Deschutes National Forest Land and Resource Management Plan (Forest Plan). The remaining portion of the fire burned within the General Forest (23 percent) and Scenic Views (1 percent) Management Areas. An estimated 2,500 acres burned at a moderate to high intensity with tree mortality of between 75 and 100 percent.

Timber salvage is needed to recover economic value and to provide funds to offset the costs of reforestation and restoration is an important emphasis of these management areas. Adjacent seed sources are no longer available in many areas, particularly within the interior areas of the fire. Based on shrub response within adjacent wildfires, interior areas with high tree mortality would require reforestation by planting ponderosa pine. Planting would establish a ponderosa pine forest that is desirable for long-term objectives such as hiding cover for big game and restoration of habitat for forest dependent species. Lowering fuel loadings to a level that reduces the likelihood of a high severity fire in regenerated stands would promote the long-term survival and growth of new conifers. A fire in heavy surface fuels could increase the duration of elevated temperatures during a fire event to levels capable of altering soil properties and affecting site productivity.

Proposed Action This action includes timber salvage and fuels reduction on approximately 2,030 acres. Fuels reduction would consist of whole tree removal. Salvage is only proposed in areas that experienced more than 75 percent mortality. An estimated 4 miles of temporary roads would be needed to remove the salvaged material. Ponderosa pine would be planted on 2,400 acres, including 2,030 acres of salvaged land.

Scoping. Public participation will be sought at several points during the analysis, including listing of this project in the winter 2003 and subsequent issues of the Central Oregon Schedule of Projects and on the Deschutes National Forest website. Agencies, organizations, tribes, and individuals who have indicated their interest would be contacted.

Issues and Alternatives. Preliminary issues identified include the potential effect of the proposed action on: soil productivity, snag and down wood habitat, and noxious weeds. A No Action alternative will be analyzed in the EIS. Other alternatives would result from the scoping process and refined issues.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decisions under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public review by April 2004. The comment period on the draft EIS will be 45 days from the date EPA publishes the Notice of Availability in the Federal Register. The final EIS is scheduled to be available July 2004.

The Forest Service believes, at this early stage, it is important to give reviewers notice of several court ruling related to public participation in the environmental review process. First, reviewers of a draft EIS must structure their participation in the environmental review of the proposal so that it is meaningful and alerts an agency to the reviewer's position and contentions (Vermont Yankee Nuclear Power Corp. v. NRDC, 435 U.S. 519, 553 (1978)). Also, environmental objections that could be raised at the draft EIS stage but that are not raised until after completion of the final EIS may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions on the National Environmental Policy Act at 40 CFR 1503.3 in addressing these points.

In the final EIS, the Forest Service is required to respond to substantive comments received during the comment period for the draft EIS. The Forest Service is the lead agency and the responsible official is the Forest Supervisor, Deschutes National Forest. The responsible official will decide where, and whether or not to salvage timber, reduce fuels, and reforest the area. The responsible official will also decide how to mitigate impacts of these actions and will determine when and how monitoring of effects will take place. The 18 Fire Recovery Project decision and the reasons for the decision will be documented in the record of decision. That decision will be subject to Forest Service Appeal Regulations (36 CFR Part 215).

Dated: December 5, 2003.
Kevin Martin,
Deputy Forest Supervisor.

[FR Doc. 03-30953 Filed 12-15-03; 8:45 am]

BILLING CODE 3410-11-M